DEPARTMENT OF ENERGY

Federal Energy Regulatory Commission

[Docket No. EL02-78-000]

New York Municipal Power Agency v. New York State Electric & Gas Corp.; Notice of Complaint

April 26, 2002.

Take notice that on April 25, 2002, New York Municipal Power Agency (NYMPA) tendered for filing a complaint alleging that the New York State Electric & Gas Corporation (NYSEG) has failed to pay NYMPA members for oversupply of energy delivered under Schedule 4 of NYSEG's Open Access Transmission Tariff (OATT), during the period commencing on July 1, 1998 and concluding on November 17, 1999.

Copies of the filing were served upon the NYSEG and other parties who NYMPA knew may be expected to be affected by the complaint.

Any person desiring to be heard or to protest this filing should file a motion to intervene or protest with the Federal Energy Regulatory Commission, 888 First Street, NE., Washington, DC 20426, in accordance with rules 211 and 214 of the Commission's rules of practice and procedure (18 CFR 385.211 and 385.214). All such motions or protests must be filed on or before May 15, 2002. Protests will be considered by the Commission in determining the appropriate action to be taken, but will not serve to make protestants parties to the proceeding. Any person wishing to become a party must file a motion to intervene. Answers to the complaint shall also be due on or before May 15, 2002. Copies of this filing are on file with the Commission and are available for public inspection. This filing may also be viewed on the web at http://www.ferc.gov using the “RIMS” link, select “Docket#” and follow the instructions (call 202-208-2222 for assistance). Comments, protests, interventions and answers may be filed electronically via the Internet in lieu of paper. See, 18 CFR 385.2001(a)(1)(iii) and the instructions on the Commission's web site under the “e-Filing” link.

Magalie R. Salas,
Secretary.

[FR Doc. 02-10859 Filed 5-1-02; 8:45 am]

BILLING CODE 6717-01-P